DEPARTMENT OF AGRICULTURE

Animal and Plant Health Inspection Service

[Docket No. APHIS-2013-0047]

U.S. Department of Agriculture Stakeholder Workshop on Coexistence

ACTION: Notice of workshop listening session and request for comments.

SUMMARY: We are advising the public that the U.S. Department of Agriculture is holding a 2-day, invitation-only workshop on agricultural coexistence, the concurrent cultivation of conventional, organic, identity-preserved, and genetically engineered crops consistent with farmer choices and consumer preferences. The objective of the workshop is to advance an understanding of agricultural coexistence and discuss how to make coexistence achievable and a basic consideration for all stakeholders. Workshop participants will represent a broad range of interests and experience relating to agricultural coexistence. The public is invited to listen to or watch the workshop sessions via phone and/or Webcast, after which they will have the opportunity to provide comments on the proposals discussed.

DATES: The workshop will be held on March 12-13, 2015, from 8:30 a.m. to 6 p.m. Comments on the workshop will be accepted from March 13, 2015, through March 27, 2015.

ADDRESSES: Call-in and Webcast information is available at the agricultural coexistence workshop Web page at: http://www.aphis.usda.gov/wps/portal/aphis/newsroom/stakeholder-info/!ut/p/a1/nVFNU4MwEP0tHjxmEkgk4Ug7foBKD9W25MJskyixFChEx_57gem1aN3bzr739u1bLPEGywq-7Ds4W1dQDr0MchYL36fEj8ULFyQi8zBZxCtC6E0PyHoAOVMRGfnJ4sH3Zj3_fhnekjhd3T2LJ04fZwFeY4mlqlzjCpxBU9guV3XlTOXy0m5baI_XpIMctvWny8f52HcOdqaoS23ablBolNU4CxljRocaBYp6iCnOkdAAiAPVEBiujQcnxxOWfrl4dDyhkPATYCKUrPfAzy5JAry88KjkD3-yH4eDjPq0h3y_Hd78M-5m_7oX9Ih2b2mKZHb1A2VTHxo!/?1dmy&urile=wcm%3apath%3a%2Faphis_content_library%2Fsa_about_aphis%2Fsa_stakeholders%2Fct_coexistence_meeting.

You may submit comments following the workshop by either of the following methods:

• Federal eRulemaking Portal: Go to http://www.regulations.gov/#!docketDetail;D=APHIS-2013-0047.

• Postal Mail/Commercial Delivery: Send your comment to Docket No. APHIS-2013-0047, Regulatory Analysis and Development, PPD, APHIS, Station 3A-03.8, 4700 River Road Unit 118, Riverdale, MD 20737-1238.

Any comments we receive on this docket may be viewed at http://www.regulations.gov/#!docketDetail;D=APHIS-2013-0047 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Michael Tadle, Program Analyst, Planning, Evaluation, and Decision Support, PPD, APHIS, 4700 River Road Unit 120, Riverdale, MD 20737, (301) 851-3140; Michael.A.Tadle@aphis.usda.gov.

SUPPLEMENTARY INFORMATION: Over the past decade, the number of acres on which American farmers are growing genetically engineered (GE) plants has increased significantly, and GE crop production continues to rise in output and variety. At the same time, farmers across the United States are producing greater quantities of identity-preserved non-GE and organic crops to meet growing consumer demand. As a result, the interactions of GE and identity-preserved non-GE production chains are becoming more significant for American farmers and consumers, the agriculture industry, and the United States Department of Agriculture (USDA or the Department). USDA supports the successful coexistence of these different forms of agricultural production and recognizes that each contributes to the overall health of farming and rural communities throughout the United States.

The USDA Advisory Committee of Biotechnology and 21st Century Agriculture (AC21) provides guidance to the Department on issues relating to agricultural coexistence, including examining the long-term impacts of biotechnology on the U.S. food and agriculture system and recommending how the Department might address those impacts. In 2011, the AC21 was tasked with recommending appropriate compensation mechanisms, if any, for addressing economic losses by farmers resulting from the unintended presence of GE materials in their crops, determining how such mechanisms would be implemented and how compensable claims would be decided, and identifying what other steps USDA might take to bolster coexistence.

During its deliberations, the AC21 examined practices used within the agricultural community for mitigating the economic risk posed by gene flow between different forms of production. They also reviewed stewardship practices, the importance of seed quality, and ways to facilitate communication and collaboration among stakeholders on matters of coexistence. In November 2012, they presented a report ¹ to the Secretary recommending actions in five major areas: Potential compensation mechanisms, stewardship, education and outreach, research, and seed quality. The recommendations reinforced the importance of agricultural coexistence and the need to educate farmers and other stakeholders in the food and feed production chain about coexistence and each stakeholder's role in its success. Following the report, USDA also assembled several cross-Agency working groups to consider the recommendations in depth. The results of their work will be discussed at the workshop.

¹ “Enhancing Coexistence: A Report of the AC21 to the Secretary of Agriculture.” The report can be viewed at: http://www.usda.gov/documents/ac21_report-enhancing-coexistence.pdf.

Among the recommendations made by the AC21 were the following:

• USDA should “spearhead and fund a broad-based, comprehensive education and outreach initiative to strengthen understanding of coexistence between diverse agricultural production systems,” and

• USDA should “work with agricultural stakeholders to develop a package of specific mechanisms that: (1) Foster good crop stewardship and mitigate potential economic risks derived from unintended gene flow between crop varieties and unintended presence in general; and (2) promote and incentivize farmer adoption of appropriate stewardship practices.”

In response to these recommendations, USDA solicited public input on ways that it could further agricultural coexistence by fostering better communication and collaboration among those involved in diverse agricultural production systems. On November 4, 2013, the Department published a Request for Information ² in the Federal Register and invited public comments. These comments were considered by the cross-Agency working groups that were established to address the report recommendations.

² 78 FR 65960-65962. To view the Request for Information, the comments we received, and a USDA-prepared summary of those comments, go to http://www.regulations.gov/#!docketDetail;D=APHIS-2013-0047.

Workshop Activities

USDA intends to host a 2-day, invitation-only workshop on March 12-13, 2015, to provide an opportunity to learn from stakeholders representing a wide range of interests with respect to agricultural coexistence and to build upon the Department's leadership and outreach efforts to promote coexistence. The workshop will achieve these aims by providing a forum for stakeholders to discuss current and potential USDA responses to the AC21 recommendations. USDA has organized the workshop around three sessions: (1) The current state of affairs of coexistence; (2) knowledge gaps, challenges, and USDA's responses so far to the AC21 recommendations; and (3) additional steps USDA is considering to respond to the challenges. During the workshop, participants representing industry, farmers, government, and academia will have the chance to expand their understanding of coexistence-related issues and raise questions, voice concerns, and share their expertise and insights about addressing the challenges of coexistence. The public will have an opportunity to listen to or watch the workshop remotely and submit comments, questions, and proposals after the event. Details for accessing the workshop and submitting comments are provided below.

In the first session, presentations will cover the current state of agricultural coexistence in the United States, including the science of GE crops, the economic implications of coexistence, and growing market demand for organic and identity-preserved non-GE products.

The second session will focus on current challenges to agricultural coexistence and what is being and can be done to address these challenges. This session will include discussion of actions that USDA has already taken in response to the AC21 report, insurance options for organic growers, germplasm purity, and reports on current coexistence-related research projects.

The final session will focus on looking ahead at what USDA intends to do to promote agricultural coexistence. Topics of discussion will include USDA initiatives, including a stakeholder outreach/communication plan, a survey of organic producers on GE-related economic losses, a study on the economic implications of coexistence, and the potential use of conservation programs, when applicable, in support of coexistence.

Due to time and space constraints, we found it necessary to limit participation in the workshop to invitation only. As noted above, participants attending the workshop have been selected from all sectors of the agricultural community and bring with them a diversity of perspectives and experiences regarding agricultural coexistence. We invite the public to listen in and watch the presentations and discussions during both days of the workshop. Information for accessing the workshop via phone and Webcast is available on the agricultural coexistence workshop Web page (see link included above under ADDRESSES). A full listing of workshop activities can also be found there. Persons interested in submitting comments on any of the topics presented during the workshop are welcome to do so through either of the methods listed above under ADDRESSES. We will thoroughly review all submissions and draw upon them as we develop ways of promoting coexistence that consider the needs of all types of producers.

Several new USDA draft proposals and products concerning coexistence will also be made available for public review via the agricultural coexistence workshop Web page, including resources for coexistence communication and planning, education on crop-specific stewardship practices and agricultural contracting, and other information on agricultural production and associated governmental programs, as well as earlier reports of the AC21. Also available is information about a new pilot program in which entities that submit a petition to USDA for a determination of nonregulated status for certain regulated articles under 7 CFR part 340 may voluntarily submit a conflict analysis and coexistence plan to advance agricultural coexistence strategies.

Additional coexistence documents will be made available in the weeks prior to the March workshop. Workshop presentations and summaries from plenary sessions and working group meetings will be made available after the event. Documents can be found as indicated above via the agricultural coexistence workshop Web page.

Additional information regarding the workshop may be obtained from the person listed under FOR FURTHER INFORMATION CONTACT.

Done in Washington, DC, this 28th day of January 2015.
Tom Vilsack,
Secretary of Agriculture.

[FR Doc. 2015-02035 Filed 2-2-15; 8:45 am]

BILLING CODE 3410-34-P